SECURITIES AND EXCHANGE COMMISSION

[Release No. 33-9562; 34-71742; IA-3799; File No. 4-673]

Cybersecurity Roundtable

AGENCY: Securities and Exchange Commission.

ACTION: Notice of roundtable discussion; request for comment.

SUMMARY: The Securities and Exchange Commission will host a cybersecurity roundtable. Roundtable panelists will discuss the cybersecurity landscape and cybersecurity issues faced by exchanges and other key market systems, broker-dealers, investment advisers, transfer agents, and public companies. Panelists also will be invited to discuss industry and public-private sector coordination efforts relating to assessing and responding to cybersecurity issues.

The roundtable discussion will be held in the auditorium of the Securities and Exchange Commission headquarters at 100 F Street NE., Washington, DC on March 26, 2014 from 9:30 a.m. to approximately 3:00 p.m. The public is invited to observe the roundtable discussion. Seating will be available on a first-come, first-serve basis. The roundtable discussion will also be available via webcast on the Commission's Web site at www.sec.gov.

DATES: The roundtable discussion will take place on March 26, 2014. The Commission will accept comments regarding issues addressed at the roundtable until May 2, 2014.

ADDRESSES: Comments may be submitted by any of the following methods:

Electronic Comments

• Use the Commission's Internet comment form (http://sec.gov/rules/other.shtml); or

• Send an email to rule-comments@sec.gov. Please include File Number 4-673 on the subject line.

Paper Comments

• Send paper comments in triplicate to Secretary, Securities and Exchange Commission, 100 F Street NE., Washington, DC 20549-1090.

All submissions should refer to File Number 4-673. This file number should be included on the subject line if email is used. To help us process and review your comments more efficiently, please only use one method. The Commission will post all comments on the Commission's Internet Web site (http://www.sec.gov/rules/other.shtml). Comments are also available for Web site viewing and printing in the Commission's Public Reference Room, 100 F Street NE., Washington, DC 20549, on official business days between the hours of 10:00 a.m. and 3:00 p.m. All comments received will be posted without change; we do not edit personal identifying information from submissions. You should submit only information that you wish to make available publicly.

FOR FURTHER INFORMATION CONTACT: Cristie March, Senior Special Counsel, Division of Trading and Markets, at 202-551-5574, David Joire, Senior Counsel, Division of Investment Management, at 202-551-6866, or Jennifer Riegel, Senior Special Counsel, Division of Corporation Finance, at 202-551-3575, Securities and Exchange Commission, 100 F Street NE., Washington, DC 20549.

By the Commission.
Dated: March 19, 2014.
Kevin M. O'Neill,
Deputy Secretary.

[FR Doc. 2014-06336 Filed 3-21-14; 8:45 am]

BILLING CODE 8011-01-P